Presidential Determination No. 2025-09 of August 8, 2025

Establishing a Trump Route for International Peace and Prosperity Working Group

Memorandum for the Secretary of State

By the authority vested in me as President by the Constitution and the laws of the United States of America, I hereby direct the Secretary of State to take the necessary steps to establish, within 180 days of the date of this determination, a working group focused on developing the Trump Route for International Peace and Prosperity (TRIPP). The TRIPP will pave the way for greater economic connectivity in the South Caucasus and serve as a monument to peace for generations to come.

You are authorized and directed to publish this determination in the Federal Register.

THE WHITE HOUSE,

Washington, August 8, 2025

[FR Doc. 2025-15683

Filed 8-14-25; 2:00 pm]

Billing code 4710-05-P